DEPARTMENT OF HEALTH AND HUMAN SERVICES

National Institutes of Health

National Institute of Allergy and Infectious Diseases; Notice of Closed Meeting

Pursuant to section 10(d) of the Federal Advisory Committee Act, as amended (5 U.S.C. App.), notice is hereby given of a meeting of the Vaccine Research Center Board of Scientific Counselors, NIAID.

The meeting will be closed to the public as indicated below in accordance with the provisions set forth in section 552b(c)(6), Title 5 U.S.C., as amended for the review, discussion, and evaluation of individual intramural programs and projects conducted by the National Institute of Allergy and Infectious Diseases, including consideration of personnel qualifications and performance, and the competence of individual investigators, the disclosure of which would constitute a clearly unwarranted invasion of personal privacy.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Name of Committee: Vaccine Research Center Board of Scientific Counselors, NIAID.

Date: April 29-30, 2013.

Closed: 8:30 a.m. to 3:30 p.m.

Agenda: To review and evaluate personal qualifications and performance, and competence of individual investigators.

Place: National Institutes of Health, Building 40, Room 1201/1203, 40 Center Drive, Bethesda, MD 20892.

Contact Person: John R Mascola, MD, Deputy Director, Vaccine Research Center, NIAID, NIH, 40 Convent Drive, Bethesda, MD 20892, (301) 496-1852, jmascola@nih.gov.

Name of Committee: Vaccine Research Center Board of Scientific Counselors, NIAID.

Date: April 29, 2013.

Closed: 8:30 a.m. to 5:00 p.m.

Agenda: To review and evaluate personal qualifications and performances, and competence of individual investigators.

Place: National Institutes of Health, Building 40, Room 1201/1203, 40 Center Drive, Bethesda, MD 20892.

Contact Person: John R. Mascola, MD, Deputy Director, Vaccine Research Center, NIAID, NIH, 40 Convent Drive, Bethesda, MD 20892, (301) 496-1852, jmascola@nih.gov.

Name of Committee: Vaccine Research Center Board of Scientific Counselors, NIAID.

Date: April 30, 2013.

Closed: 8:30 a.m. to 3:30 p.m.

Agenda: To review and evaluate personal qualifications and performances, and competence of individual investigators.

Place: National Institutes of Health, Building 40, Room 1201/1203, 40 Center Drive, Bethesda, MD 20892, (301) 496-1852.

Contact Person: John R. Mascola, MD, Deputy Director, Vaccine Research Center, NIAID, NIH, 40 Convent Drive, Bethesda, MD 20892, (301) 496-1852, jmascola@nih.gov.

(Catalogue of Federal Domestic Assistance Program Nos. 93.855, Allergy, Immunology, and Transplantation Research; 93.856, Microbiology and Infectious Diseases Research, National Institutes of Health, HHS)

Dated: February 19, 2013.
David Clary,
Program Analyst, Office of Federal Advisory Committee Policy.

[FR Doc. 2013-04210 Filed 2-22-13; 8:45 am]

BILLING CODE 4140-01-P